DEPARTMENT OF COMMERCE

International Trade Administration

[A-580-815]

Certain Cold-Rolled Carbon Steel Flat Products From Korea: Initiation of New Shipper Antidumping Duty Administrative Review

AGENCY: Import Administration, International Trade Administration, Department of Commerce.

ACTION: Notice of initiation of new shipper antidumping administrative review.

SUMMARY: The Department of Commerce (“the Department”) has received a request to conduct a new shipper administrative review of the antidumping duty order on certain cold-rolled carbon steel flat products (“cold-rolled”) from Korea, which has an August anniversary date. In accordance with 19 CFR 351.214 (d), we are initiating this new shipper administrative review.

EFFECTIVE DATE: October 5, 2000.

FOR FURTHER INFORMATION CONTACT: Robert Bolling or James Doyle, Import Administration, International Trade Administration, U.S. Department of Commerce, 14th Street and Constitution Avenue, NW., Washington, DC 20230; telephone: (202) 482-4733.

SUPPLEMENTARY INFORMATION:

Applicable Statute

Unless otherwise indicated, all citations to the statute are references to the provisions effective January 1, 1995, the effective date of the amendments made to the Tariff Act of 1930 (the Act) by the Uruguay Round Agreements Act. In addition, unless otherwise indicated, all citations to the Department's regulations are to the regulations as codified at 19 CFR Part 351 (1999).

Background

On August 31, 2000, the Department received a timely request from Hyundai Pipe Co., Ltd. (“HDP”) in accordance with 19 CFR 351.214(d), for a new shipper review of the antidumping duty order on certain cold-rolled carbon steel flat products from Korea, which has an August anniversary date. See Antidumping Duty Order: Certain Cold-Rolled Carbon Steel Flat Products from Korea, 58 FR 44159 (August 19, 1993).

Initiation of Review

In its request of August 31, 2000, HDP, as required by 19 CFR 351.214(b)(2)(i) and (b)(2)(iii)(A), certified that it did not export the subject merchandise to the United States during the period of investigation (“POI”) January 1, 1992 through June 30, 1992, and that since the investigation was initiated on July 20, 1992, (57 FR 33488, July 29, 1992), it has not been affiliated with any company which exported the subject merchandise to the United States during the POI. Pursuant to the Department's regulations at 19 CFR 351.214(b)(2)(iv), HDP submitted documentation establishing the date on which it first entered the subject merchandise to the United States, the volume of that first shipment, and the date of its first sale to an unaffiliated customer in the United States.

In accordance with section 751(a)(2)(B) of the Act and 19 CFR 351.214(d), we are initiating a new shipper review of the antidumping order on cold-rolled steel from Korea. In accordance with 19 CFR 351.214(h)(1), we intend to issue preliminary results of this review no later than 180 days after the date of initiation.

In accordance with section 351.214(g)(1)(i)(A) of the Department's regulations, the period of review (“POR”) for a new shipper review initiated in the month immediately following the annual anniversary month is the twelve-month period preceding the anniversary month. Therefore, the POR for this new shipper is August 1, 1999 through July 31, 2000.

Concurrent with publication of this notice and in accordance with 19 CFR 351.214(e), we will instruct the U.S. Customs Service to allow, at the option of the importer, the posting of a bond or security in lieu of a cash deposit for each entry of the merchandise exported by the above listed company, until the completion of this review.

The interested parties must submit applications for disclosure under administrative protective order in accordance with 19 CFR 351.305 and 351.306.

This initiation and notice are in accordance with section 751(a) of the Act (19 U.S.C. 1675(a)) and 19 CFR 351.214.

Dated: September 28, 2000.
Barbara E. Tillman,
Acting Deputy Assistant Secretary for AD/CVD Enforcement Group III.

[FR Doc. 00-25619 Filed 10-4-00; 8:45 am]

BILLING CODE 3510-DS-P